DEPARTMENT OF HOMELAND SECURITY

Coast Guard

33 CFR Part 117

[Docket No. USCG-2009-0877]

Drawbridge Operation Regulation; Cerritos Channel, Long Beach, CA

AGENCY: Coast Guard, DHS.

ACTION: Notice of temporary deviation from regulations.

SUMMARY: The Commander, Eleventh Coast Guard District, has issued a temporary deviation from the regulation governing the operation of the Commodore Schuyler F. Heim drawbridge across Cerritos Channel, mile 4.9, at Long Beach, CA. The deviation is necessary to allow film industry use of the drawbridge. This deviation allows the bridge to remain secured at various elevations including the closed-to-navigation position during the filming operation.

DATES: This deviation is effective from 12 midnight October 1, 2009 through 5 a.m. on October 5, 2009.

ADDRESSES: Documents mentioned in this preamble as being available in the docket are part of docket USCG-2009-0877 and are available online by going to http://www.regulations.gov, inserting USCG-2009-0877 in the “Keyword” box and then clicking “Search.” This material is also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail David H. Sulouff, Chief, Bridge Section, Eleventh Coast Guard District; telephone 510-437-3516, e-mail David.H.Sulouff@uscg.mil. If you have questions on viewing the docket, call Renee V. Wright, Program Manager, Docket Operations, telephone 202-366-9826.

SUPPLEMENTARY INFORMATION: Caltrans requested a temporary change to the operation of the Commodore Schuyler F. Heim highway bridge, mile 4.9 at Long Beach, CA. The drawbridge navigation span provides a vertical clearance of 37 feet above Mean High Water in the closed-to-navigation position and 163 feet in the full open to navigation position. Under the governing drawbridge regulation, 33 CFR 117.147, the draw of the Commodore Schuyler F. Heim highway bridge, mile 4.9 at Long Beach, shall open on signal; except that, from 6:30 a.m. to 8 a.m. and 3:30 p.m. to 6 p.m. Monday through Friday except Federal holidays, the draw need not be opened for the passage of vessels. The opening signal for the Commodore Schuyler Heim Bridge is three prolonged blasts. The acknowledging signal is two prolonged blasts followed by one short blast when the draw will open immediately and five short blasts when the draw will not open immediately. VHF-FM Channel 13 (156.65 MHZ) or other assigned frequencies may be used. Navigation on the waterway is commercial, recreational, search and rescue, and law enforcement.

The drawspan will be secured at various elevations including the closed-to-navigation position from 7 p.m. on September 18, 2009 through 5 a.m. on October 5, 2009, to allow film industry use of the drawbridge. The alternative path around Terminal Island will be available for routine and emergency navigation. This temporary deviation has been coordinated with commercial and recreational waterway users. No objections to the proposed temporary deviation were raised.

Vessels that can transit the bridge, while in the closed-to-navigation position, should contact the Coast Guard Captain of the Port LA/LB, for information on waterway closures.

In accordance with 33 CFR 117.35(e), the drawbridge must return to its regular operating schedule immediately at the end of the designated time period. This deviation from the operating regulations is authorized under 33 CFR 117.35.

Dated: September 18, 2009.
J.R. Castillo,
Rear Admiral, U.S. Coast Guard, Commander, Eleventh Coast Guard District.

[FR Doc. E9-23643 Filed 9-30-09; 8:45 am]

BILLING CODE 4910-15-P